DEPARTMENT OF THE INTERIOR

Fish and Wildlife Service

[Docket No. FWS-R2-ES-2019-0066; FXES11130200000-190-FF02ENEH00]

Endangered and Threatened Wildlife and Plants; Draft Revised Recovery Plan for Kearney's Blue Star

AGENCY: Fish and Wildlife Service, Interior.

ACTION: Notice of availability; request for comment.

SUMMARY: We, the U.S. Fish and Wildlife Service, announce the availability of our draft revised recovery plan for Kearney's blue star, listed as endangered under the Endangered Species Act. Kearney's blue star is a perennial flowering plant, a narrow endemic known from a single mountain range in Pima County, Arizona. We provide this notice to seek comments from the public and Federal, Tribal, State, and local governments.

DATES: We must receive written comments on or before May 26, 2020.

ADDRESSES:

Reviewing documents: You may obtain a copy of the draft revised recovery plan and recovery implementation strategy in Docket No. FWS-R2-ES-2019-0066 at http://www.regulations.gov.

Submitting Comments: You may submit comments by one of the following methods:

• Federal eRulemaking Portal: http://www.regulations.gov. Follow the instructions for submitting comments on Docket No. FWS-R2-ES-2019-0066.

• U.S. mail or hand-delivery: Public Comments Processing; Attn: Docket No. FWS-R2-ES-2019-0066; U.S. Fish and Wildlife Service Headquarters, MS: JAO/1N; 5275 Leesburg Pike, Falls Church, VA 22041-3803.

For additional information about submitting comments, see Request for Public Comments and Public Availability of Comments under SUPPLEMENTARY INFORMATION.

FOR FURTHER INFORMATION CONTACT: Julie McIntyre, Assistant Field Supervisor, by phone at 520-670-6150, by email at julie_mcintyre@fws.gov, or via the Federal Relay Service at 800-877-8339 for TTY service.

SUPPLEMENTARY INFORMATION: We, the U.S. Fish and Wildlife Service (Service), announce the availability of our draft revised recovery plan for Kearney's blue star (Amsonia kearneyana), listed as endangered under the Endangered Species Act of 1973, as amended (ESA; 16 U.S.C. 1531 et seq.). Kearney's blue star is a perennial flowering plant, a narrow endemic known from a single mountain range in Pima County, Arizona. The draft revised recovery plan includes specific recovery objectives and criteria that, when achieved, will enable us to remove Kearney's blue star from the list of endangered and threatened plants. We request review and comment on this plan from local, State, and Federal agencies; Tribes; and the public. We will also accept any new information on the status of Kearney's blue star throughout its range to assist us in finalizing the recovery plan.

Background

Recovery of endangered or threatened animals and plants to the point where they are again secure, self-sustaining members of their ecosystems is a primary goal of our endangered species program and the ESA. Recovery means improvement of the status of listed species to the point at which listing is no longer appropriate under the criteria set out in section 4(a)(1) of the ESA. The ESA requires the development of recovery plans for listed species, unless such a plan would not promote the conservation of a particular species. The Service approved a recovery plan for Kearney's blue star in 1993; however, the original plan did not establish criteria for removing Kearney's blue star from the list of endangered and threatened plants (delisting).

This recovery plan revision is part of a larger effort underway to revise up to 182 recovery plans covering up to 305 species, in order to achieve the following Department of the Interior Agency Priority Performance Goal (APG) outlined in the Department's Strategic Plan for Fiscal Years 2018-2022: “By September 30, 2019, 100 percent of all Fish and Wildlife Service recovery plans will have quantitative criteria for what constitutes a recovered species.” In addition to satisfying the Department of the Interior's APG, new information has been gathered over the last 25 years on the species' biology, distribution, and threats, leading us to develop new downlisting criteria (reclassifying Kearney's blue star from an endangered to threatened status). Therefore, this plan will serve as a revision to the 1993 recovery plan for Kearney's blue star.

We utilized a streamlined approach to recovery planning and implementation for Kearney's blue star by preparing a separate recovery plan document and recovery implementation strategy. The information in the draft recovery plan provides the biological background, a threats assessment, a strategy for recovery of Kearney's blue star, quantitative downlisting and delisting criteria, an abbreviated list of prioritized recovery actions, and the estimated time and cost to recovery. The separate recovery implementation strategy document further describes in detail the specific near-term activities needed to implement the prioritized recovery actions (Service 2019).

Summary of Species Information

Kearney's blue star is a long-lived perennial flowering plant endemic to Pima County in southern Arizona. We listed it as an endangered species on January 19, 1989, at which time it was only known from a single location in the riparian area of South Canyon in the Baboquivari Mountains on lands administered by the Tohono O'odham Nation (54 FR 2131). Since then, the discovery of new plants on lands administered by the Bureau of Land Management and the Arizona State Land Department, along with the establishment of a new location on private land (now owned and administered by the Buenos Aires National Wildlife Refuge), has increased the known spatial distribution of the species to include ridges in Brown Canyon, Jaguar Canyon, and Thomas Canyon in southern Arizona. Recently uncovered herbarium records also indicate there are multiple locations of Kearney's blue star in Sycamore and Baboquivari Canyons on Tohono O'odham Nation lands.

Kearney's blue star produces large white flowers tinged with blue at the base in late April and May. The species is capable of reproducing both vegetatively (asexually, through roots) and through seed (sexually). Sexual reproduction of this species requires pollinators, and a wide variety have been documented visiting Kearney's blue star plants and flowers. Specifically, the pollinators noted visiting plants include: Skipper butterfly (Hesperidae); pipevine swallowtail (Papilionidae); gossamer-winged butterfly (Lycaenidae); sphinx moth (Sphingidae); tiger moth (Arctiidae); snout moth (Lasiocampidae); thrips (Thysanoptera); long-winged black Coleoptera; mordellid and various other beetles; broad-tailed hummingbird (Selasphorus platycercus); bee flies (Bombyliidae); and Arizona metalmarks (Riodinidae) (Service 2012, p. 5).

The habitat of Kearney's blue star lies at the lower elevation transition of the Madrean pine-oak woodland and the semi-desert grassland. Within this habitat, Kearney's blue star occurs in both open woodland on unconsolidated slopes of over 20 degrees, and canyon bottoms in full sun to partial shade. We estimate that the known habitat for Kearney's blue star is 2,064 hectares (5,101 acres). It is not fully understood what constitutes a population of Kearney's blue star; therefore, we use the terms “site” (areas supporting Kearney's blue star individuals that are surrounded by a 1,000-meter radius of suitable habitat for the species and its pollinators) and “sub-site” (areas within sites that support Kearney's blue star individuals that likely share pollinators) to describe the current distribution of the species.

Despite the discovery of plants at new locations, the overall abundance of Kearney's blue star individuals has decreased, and documentation of reproduction is limited to one incident in 1982. A comparison of recent and historical survey results from accessible sub-sites indicates that the number of individuals has declined by about 48 percent. Although the overall abundance of Kearney's blue star individuals has decreased since the time of listing, the quantity of the species' habitat does not appear to have declined. It is therefore believed that habitat quality for the species is changing due to a combination of factors, likely including poorly managed livestock grazing, nonnative plant presence and spread and the resulting altered wildfire regime, border activities, and drought and climate change. As a result, woodland habitats, such as those that support Kearney's blue star, are becoming more desertified, with fewer trees and more grassland species associates (Service 2012, p. 1).

Recovery Plan Goals

The objective of a recovery plan is to provide a framework for the recovery of a species so that protection under the ESA is no longer necessary. A recovery plan includes scientific information about the species and provides criteria and actions necessary for us to be able to reclassify the species to threatened status or remove it from the lists of endangered and threatened wildlife and plants. Recovery plans help guide our recovery efforts by describing actions we consider necessary for the species' conservation, and by estimating time and costs for implementing needed recovery measures.

The original Kearney's blue star recovery plan includes downlisting criteria; however, no delisting criteria were established due to the unknown nature of the species' life history and habitat requirements at that time (Service 1993). The downlisting criteria in the original plan focus on the maintenance of self-sustaining natural populations and establishing procedures to ensure continued protection of these populations from human and natural threats (Service 1993). Once these downlisting criteria were met, the intention was to revise the original recovery plan to establish specific delisting objectives. In this revised recovery plan, our core strategy is to ensure the viability of Kearney's blue star across its range, and to conserve and manage habitat for the species and its pollinators. Our population-based recovery objective is to conserve existing, newly discovered, and introduced plants and their seedbanks throughout the species' range to ensure the long-term survival of the taxon. Our habitat and threat-based recovery objective is to conserve, restore, and manage the quantity and quality of Kearney's blue star habitat and pollinator habitat. This may be accomplished by minimizing significant threats to the species, such as habitat degradation, the spread of nonnative plant species, an altered fire regime, and other stressors such as climate change-induced drought and border activities.

The revised recovery plan establishes both population-based and habitat-based downlisting and delisting criteria. These criteria focus on maintaining a viable level of Kearney's blue star individuals, and conserving habitat of sufficient quantity and quality for the species and its pollinators. To achieve these recovery criteria, various actions are needed, such as monitoring and augmentation of existing sub-sites; surveying for and establishing new sub-sites; monitoring and minimizing threats; and conducting research, education, and outreach. When the recovery criteria established in this plan are met, we will review the species' status and consider downlisting and, ultimately, removal from the list of endangered and threatened plants.

Request for Public Comments

Section 4(f) of the ESA requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species, ongoing beneficial management efforts, and the costs associated with implementing the recommended recovery actions.

Public Availability of Comments

All comments received, including names and addresses, will become part of the administrative record and will be available to the public. Before including your address, phone number, email address, or other personal identifying information in your comment, you should be aware that your entire comment—including your personal identifying information—will be publicly available. If you submit a hardcopy comment that includes personal identifying information, you may request at the top of your document that we withhold this information from public review. However, we cannot guarantee that we will be able to do so.

Authority

We developed our draft recovery plan and publish this notice under the authority of section 4(f) of the Endangered Species Act of 1973, as amended (16 U.S.C. 1531 et seq.).

Jeffrey Fleming,
Acting Regional Director, Southwest Region.

[FR Doc. 2020-06421 Filed 3-26-20; 8:45 am]

BILLING CODE 4333-15-P